SMALL BUSINESS ADMINISTRATION

[Declaration of Disaster #3505]

State of Illinois

As a result of the President's major disaster declaration on May 15, 2003, I find that Adams, Alexander, Brown, Fulton, Hancock, Mason, Massac, Pope, Pulaski, Schuyler, Tazewell and Woodford Counties in the State of Illinois constitute a disaster area due to damages caused by severe storms, tornadoes and flooding occurring on May 6 through May 11, 2003. Applications for loans for physical damage as a result of this disaster may be filed until the close of business on July 14, 2003 and for economic injury until the close of business on February 17, 2004 at the address listed below or other locally announced locations: U.S. Small Business Administration, Disaster Area 2 Office, One Baltimore Place, Suite 300, Atlanta, GA 30308.

In addition, applications for economic injury loans from small businesses located in the following contiguous counties may be filed until the specified date at the above location: Cass, Hardin, Henderson, Johnson, Knox, LaSalle, Livingston, Logan, Marshall, McDonough, McLean, Menard, Morgan, Peoria, Pike, Saline, Union, Warren and Williamson in the State of Illinois; Lee County in the State of Iowa; Ballard, Livingston, Marshal and McCracken Counties in the State of Kentucky; Cape Girardeau, Clark, Lewis, Marion, Mississippi and Scott Counties in the State of Missouri.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The number assigned to this disaster for physical damage is 350512. For economic injury the number is 9V4000 for Illinois; 9V4100 for Iowa; 9V4200 for Kentucky; and 9V4300 for Missouri.

(Catalog of Federal Domestic Assistance Program Nos. 59002 and 59008)
Dated: May 19, 2003.
Herbert L. Mitchell,
Associate Administrator for Disaster Assistance.

[FR Doc. 03-13109 Filed 5-23-03; 8:45 am]

BILLING CODE 8025-01-P